NATIONAL SCIENCE FOUNDATION

Agency Information Collection Activities: Comment Request; Survey of Earned Doctorates

AGENCY: National Science Foundation.

ACTION: Submission for OMB review; comment request.

SUMMARY: The National Science Foundation (NSF) has submitted the following information collection requirement to OMB for review and clearance under the Paperwork Reduction Act of 1995. This is the second notice for public comment; the first was published in the Federal Register, and one comment was received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Title of Collection: Survey of Earned Doctorates.

OMB Control Number: 3145-0019.

Summary of Collection: The SED has been conducted annually since 1958 and is jointly sponsored by four Federal agencies (NSF/NCSES, National Institutes of Health, U.S. Department of Education/National Center for Education Statistics, and National Endowment for the Humanities) to avoid duplication of effort in collecting such data. The authority to collect information for the Survey of Earned Doctorates (SED) is established under the National Science Foundation Act of 1950, as amended, Public Law 507 (42 U.S.C. 1862), Section 3(a) (6), which directs the NSF “. . . to provide a central clearinghouse for the collection, interpretation, and analysis of data on scientific and engineering resources and to provide a source of information for policy formation by other agencies of the federal government.”

This request to extend the information collection for three years is to cover the 2022 and 2023 SED survey cycles. Data are obtained primarily via Web survey from each person earning a research doctorate at the time they receive the degree. Graduate schools help distribute the SED to their graduating doctorate recipients.

The survey will be collected in conformance with the NSF Act of 1950, as amended, and the Privacy Act of 1974. Responses from individuals are voluntary. NCSES will ensure that all individually identifiable information collected will be kept strictly confidential and will be used for research or statistical purposes, analyzing data, and preparing scientific reports and articles.

Use of the Information: NCSES, as the lead agency, publishes statistics from the survey in several reports, but primarily in the annual publication series reporting on all fields of study, titled Doctorate Recipients from U.S. Universities. Information from the SED is also used to prepare congressionally mandated reports such as Science and Engineering Indicators and Women, Minorities and Persons with Disabilities in Science and Engineering.

Expected Respondents: The SED is a census of all individuals receiving a research doctorate from an accredited U.S. academic institution in an academic year (AY) beginning 1 July and ending 30 June of the following year. Based on the historical trend, NCSES expects that approximately 57,000 individuals will receive a research doctorate from U.S. institutions in AY2022, and approximately 58,000 in AY2023. NCSES estimates the response rate will be 92 percent for both the 2022 and 2023 SED survey cycles. In addition to the survey completion of individuals receiving their research doctorates, the SED requires the collection of administrative data such as graduation lists from approximately 600 Institutional Coordinators at the participating institutions who help to distribute the Web survey link, track survey completions, and submit information to the SED survey contractor.

Estimate of Burden: Based on an average Web survey completion time of 20 minutes, the respondent burden for completing the SED is estimated at 17,480 hours in 2022 (57,000 doctorate recipients × 92% response × 20 minutes) and 17,787 hours in 2023 (58,000 doctorate recipients x 92% response x 20 minutes). With about 600 schools expected to participate in the 2022 and 2023 SED, the estimated burden to Institutional Coordinators is 12,000 hours for each survey cycle. Therefore, the total burden for the SED is estimated to be 29,480 (17,480 + 12,000) hours in the 2022 survey cycle and 29,787 (17,787 + 12,000) hours in the 2023 survey cycle. NCSES estimates that the average annual burden for the 2022 and 2023 survey cycles over the course of the three-year OMB clearance period will be no more than 19,756 hours [(29,480 hours + 29,787 hours)/3 years].

Comment: As required by 5 CFR 1320.8(d), comments on the information collection activities were solicited through publication of a 60-day notice in the Federal Register on 14 October 2020 at 85 FR 65078. NCSES received one public comment from the Federation of American Societies for Experimental Biology advocating for the collection of information on the participation of sexual and gender minorities in doctoral education. NCSES informed the commenter that it shares their interest in improving federal data collections and providing reliable measures for important segments of the population. NCSES also informed the commenter that it is conducting research to evaluate these measures with the goal that this research, in combination with on-going sexual orientation and gender identity (SOGI) survey content research being conducted by other federal agencies, will enable the development of standard guidance for collecting SOGI data in the near future.

Comments: Comments are invited on (a) whether the proposed collection of information is necessary for the proper performance of the functions of the Agency, including whether the information shall have practical utility; (b) the accuracy of the Agency's estimate of burden of the proposed collection of information; (c) ways to enhance the quality, utility and clarity of the information on respondents, including use of automated collection techniques or other forms of information technology; and (d) ways to minimize the burden of the collection of information on those who are to respond, including through the use of appropriate automated, electronic, mechanical, or other technological collection techniques or other forms of information technology.

Dated: February 2, 2021.
Suzanne H. Plimpton,
Reports Clearance Officer, National Science Foundation.

[FR Doc. 2021-02449 Filed 2-4-21; 8:45 am]

BILLING CODE 7555-01-P